DEPARTMENT OF ENERGY

Federal Energy Regulatory Commission

Combined Notice of Filings #2

Take notice that the Commission received the following exempt wholesale generator filings:

Docket Numbers: EG16-26-000.

Applicants: FTS Project Owner 1, LLC.

Description: Notice of Self-Certification of Exempt Wholesale Generator (EWG) Status of FTS Project Owner 1, LLC.

Filed Date: 12/4/15.

Accession Number: 20151204-5176.

Comments Due: 5 p.m. ET 12/28/15.

Docket Numbers: EG16-27-000.

Applicants: FTS Master Tenant 1, LLC.

Description: Notice of Self-Certification of Exempt Wholesale Generator (EWG) Status of FTS Master Tenant 1, LLC.

Filed Date: 12/4/15.

Accession Number: 20151204-5177.

Comments Due: 5 p.m. ET 12/28/15.

Take notice that the Commission received the following electric rate filings:

Docket Numbers: ER16-336-001.

Applicants: Pure Energy, Inc.

Description: Compliance filing: Revised Compliance Filing to be effective 11/17/2015.

Filed Date: 12/4/15.

Accession Number: 20151204-5193.

Comments Due: 5 p.m. ET 12/28/15.

Docket Numbers: ER16-465-000.

Applicants: Duke Energy Progress, LLC.

Description: § 205(d) Rate Filing: Amended RS No. 185—Town of Waynesville to be effective 1/1/2016.

Filed Date: 12/4/15.

Accession Number: 20151204-5165.

Comments Due: 5 p.m. ET 12/28/15.

Docket Numbers: ER16-466-000.

Applicants: Anahau Energy, LLC.

Description: Compliance filing: Notification of Change in Status and Tariff Amendment to be effective 12/5/2015.

Filed Date: 12/4/15.

Accession Number: 20151204-5211.

Comments Due: 5 p.m. ET 12/28/15.

Docket Numbers: ER16-467-000.

Applicants: Midcontinent Independent System Operator, Inc., WPPI Energy.

Description: § 205(d) Rate Filing: 2015-12-04_WPPI Cost Recovery Filing to be effective 1/1/2016.

Filed Date: 12/4/15.

Accession Number: 20151204-5212.

Comments Due: 5 p.m. ET 12/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2015.
Nathaniel J. Davis, Sr.,
Deputy Secretary.

[FR Doc. 2015-31121 Filed 12-9-15; 8:45 am]

BILLING CODE 6717-01-P